ENVIRONMENTAL PROTECTION AGENCY

40 CFR Part 52

[EPA-R07-OAR-2015-0438; FRL-9942-76-Region 7]

Approval and Promulgation of Air Quality Implementation Plans; State of Missouri; Emissions Inventory and Emissions Statement for the Missouri Portion of the St. Louis MO-IL Ozone Nonattainment Area

AGENCY: Environmental Protection Agency (EPA).

ACTION: Direct final rule.

SUMMARY: The Environmental Protection Agency (EPA) is taking direct final action to approve revisions to the State Implementation Plan (SIP) for the state of Missouri. The revisions address base year Emissions Inventory (EI) and emissions statement requirements of the Clean Air Act (CAA) for the Missouri portion of the St. Louis marginal ozone nonattainment area (“St. Louis area”). The Missouri counties comprising the St. Louis area are Franklin, Jefferson, St. Charles, and St. Louis along with the City of St. Louis. EPA is taking final action to approve the SIP revisions because they satisfy the CAA section 182 requirements for the 2008 8-hour ozone National Ambient Air Quality Standards (NAAQS). EPA is approving the revisions pursuant to section 110 and part D of the CAA and EPA's regulations. EPA will consider and take action on the Illinois submission for its portion of the St. Louis area in a separate action.

DATES: This direct final rule will be effective April 25, 2016, without further notice, unless EPA receives adverse comment by March 28, 2016. If EPA receives adverse comment, we will publish a timely withdrawal of the direct final rule in the Federal Register informing the public that the rule will not take effect.

ADDRESSES: Submit your comments, identified by Docket ID No. EPA-R07-OAR-2015-0438, to http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the Web, cloud, or other file sharing system). For additional submission methods, the full EPA public comment policy, information about CBI or multimedia submissions, and general guidance on making effective comments, please visit http://www2.epa.gov/dockets/commenting-epa-dockets.

Publicly available docket materials are available either electronically at www.regulations.gov or at the Environmental Protection Agency, Air Planning and Development Branch, 11201 Renner Boulevard, Lenexa, Kansas 66219. The Regional Office's official hours of business are Monday through Friday, 8:00 a.m. to 4:30 p.m., excluding legal holidays. The interested persons wanting to examine these documents should make an appointment with the office at least 24 hours in advance.

FOR FURTHER INFORMATION CONTACT: Lachala Kemp, Environmental Protection Agency, Air Planning and Development Branch, 11201 Renner Boulevard, Lenexa, Kansas 66219 at (913) 551-7214 or by email at kemp.lachala@epa.gov.

SUPPLEMENTARY INFORMATION: Throughout this document “we,” “us,” or “our” refer to EPA.

Table of Contents

I. What is the background for this action?

II. What is EPA's analysis of the State's submission?

III. Final Action

IV. Statutory and Executive Order Reviews

I. What is the background for this action?

Ground-level ozone is a gas that is formed by the reaction of volatile organic compounds (VOCs) and oxides of nitrogen (NOX) in the atmosphere in the presence of sunlight. These precursor emissions are emitted by many types of pollution sources, including power plants and industrial emissions sources, on-road and off-road motor vehicles and engines, and smaller sources, collectively referred to as area sources.

On March 12, 2008, EPA promulgated a revised NAAQS for ozone based on 8-hour average concentrations. The level of the 2008 8-Hour ozone NAAQS (hereafter the 2008 O3 NAAQS) was revised from 0.08 parts per million (ppm) to 0.075 ppm (73 FR 16436). EPA finalized designations for the 2008 O3 NAAQS on May 21, 2012 (77 FR 30088). At the time of designations, the bi-state Missouri area was classified as Marginal nonattainment for the 2008 O3 NAAQS. Based on the nonattainment designations, Missouri was required to submit a SIP revision to EPA addressing certain CAA requirements.

CAA sections 172(c)(3) and 182(a)(1) require states to develop and submit as a SIP revision a comprehensive, accurate, current emissions inventory (EI) for all areas designated as nonattainment for the O3 NAAQS. 42 U.S.C. 7502(c) and 7511a(a). An EI is an estimation of actual emissions of air pollutants in an area that provides data for a variety of air quality planning tasks including establishing baseline emission levels, calculating Federally required emission reduction targets, emission inputs into air quality simulation models, and tracking emissions over time. The total EI of VOC and NOX for a given area are summarized from the estimates developed for five general categories of emissions sources: Point, area, on-road mobile, non-road mobile, and biogenic. EPA's final 2008 ozone standard SIP requirements rule suggested that states use 2011 as a base year to address the EI requirements (80 FR 12264, March 6, 2015).

II. What is EPA's analysis of the State's submission?

The primary CAA requirements are found in sections 110(l), and 182(a). CAA section 110(l) requires that a SIP revision submitted to EPA be adopted after reasonable notice and public hearing. Section 110(l) also requires that EPA not approve a SIP if the revision would interfere with any applicable requirement concerning attainment and reasonable further progress, or any other applicable requirement of the CAA. CAA section 182(a) requires states with areas designated nonattainment for the ozone NAAQS to submit a SIP revision that contains a comprehensive, accurate, current inventory of actual emissions from all sources.

On September 9, 2014, the State of Missouri submitted a SIP revision containing the base year emissions inventory and emissions statement requirements related to the 2008 8-hour ozone NAAQS for the Missouri portion of the St. Louis area.¹

¹ As Missouri noted in its SIP revision, other required elements of Marginal nonattainment area plans in CAA Section 182(a) have already been addressed in state regulations or in prior SIP actions.

A. Base Year Emissions Inventory

Missouri selected 2011 as its base year inventory, as suggested by EPA in its final SIP requirements Rule which is the year corresponding with the first triennial inventory required under 40 CFR part 51, subpart A. This base year is one of the three years of ambient air quality data used to designate the area nonattainment. Missouri's emissions inventory for its portion of the St. Louis area provides 2011 actual emissions of the pollutants that contribute to ozone formation for the nonattainment area: VOCs, NOX, and Carbon Monoxide (CO). A detailed discussion of the inventory is located in appendix A to Missouri's submission which is provided in the docket for this action. The tables below provide a summary of the emissions inventory for the Missouri portion of the St. Louis nonattainment area.

Table 1 displays the 2011 anthropogenic emissions inventory summary for the Missouri portion of the 2008 St. Louis ozone nonattainment area in tons per ozone season day. The anthropogenic source categories include point, area, onroad mobile, and nonroad sources. Table 2 displays the 2011 emissions inventory summary for the biogenic and wildfire (event) source categories in the Missouri portion of the 2008 St. Louis ozone nonattainment area in tons per ozone season day. Event emissions include wild fire emissions, prescribed burning and agricultural burning; however, when annual emissions from these three event source categories are temporally allocated to ozone season day emissions, only wild fire emissions are projected to occur during the high ozone season.

Table 1—2011 Anthropogenic Emissions Inventory Summary for the Missouri Portion of the Nonattainment Area
[Tons/ozone season day]
County name | Source category | VOC | NOX | CO
Franklin County | Point Sources | 2.52 | 27.75 | 7.55
Jefferson County |  | 1.63 | 16.66 | 7.23
St. Charles County |  | 3.34 | 25.04 | 2.82
St. Louis County |  | 3.5 | 16.74 | 17.68
St. Louis City |  | 3.59 | 4.49 | 7.36
Totals * |  | 14.58 | 90.69 | 42.65
Franklin County | Area Sources | 3.36 | 0.49 | 3.03
Jefferson County |  | 7.48 | 0.62 | 8.14
St. Charles County |  | 11.21 | 0.68 | 1.35 | St. Louis County |  | 38.68 | 2.65 | 4.72
St. Louis City |  | 12.04 | 1.16 | 1.76
Totals * |  | 72.77 | 5.6 | 19.01
Franklin County | Onroad Mobile Sources | 2.40 | 7.83 | 21.18
Jefferson County |  | 4.24 | 12.45 | 34.91
St. Charles County |  | 6.73 | 21.04 | 56.63
St. Louis County |  | 20.17 | 66.34 | 176.34
St. Louis City |  | 4.46 | 16.55 | 42.14
Totals * |  | 38.00 | 124.20 | 331.20
Franklin County | Nonroad Sources | 3.31 | 5.72 | 18.55
Jefferson County |  | 3.12 | 3.33 | 28.68
St. Charles County |  | 6.23 | 8.34 | 62.81 | St. Louis County |  | 22.99 | 23.85 | 315.24
St. Louis City |  | 3.38 | 6.31 | 48.14
Totals * |  | 39.03 | 47.55 | 473.42
Grand Total * |  | 164.38 | 268.04 | 866.28
Note: Figures may not total exactly due to rounding.

Table 2—2011 Wildfire and Biogenic Emissions Inventory Summary for the Missouri Portion of the Nonattainment Areas
[Tons/ozone season day]
County name | Source category | VOC | NOX | CO
Franklin County | Wild Fires (Event) | 0.09 | 0.00 | 0.40
Jefferson County |  | 0.07 | 0.00 | 0.28
St. Charles County |  | 0.00 | 0.00 | 0.01
St. Louis County |  | 0.00 | 0.00 | 0.01
St. Louis City |  | 0.00 | 0.00 | 0.00
Totals * |  | 0.16 | 0.01 | 0.69
Franklin County | Biogenic Sources | 126.84 | 1.09 | 11.58
Jefferson County |  | 104.17 | 0.51 | 9.29
St. Charles County |  | 65.94 | 1.05 | 7.09
St. Louis County |  | 60.84 | 0.68 | 5.55
St. Louis City |  | 10.93 | 0.13 | 1.03
Totals * |  | 368.71 | 3.47 | 34.55
* Note: Figures may not total exactly due to rounding.

Missouri's inventory contains point sources, nonpoint, onroad mobile, and nonroad sources. The state developed the point source emissions inventory using actual emissions directly reported by electric generating unit (EGU) and non EGU sources in the area. Point sources are large, stationary, identifiable sources of emissions that release pollutants into the atmosphere. The point source emissions inventory for Missouri's portion of the St. Louis area was developed using facility-specific emissions data, and is included in the docket for this action.

Nonpoint sources are small emission stationary sources which due to their large number, collectively have significant emissions. Emissions from these sources were estimated by multiplying an emission factor by some known indicator of collective activity for each source category at the county level. Non-road mobile sources include vehicles, engines, and equipment used for construction, agriculture, recreation, and other purposes that do not use roadways. Missouri calculated emissions for its nonroad mobile sources using EPA's NONROAD2008a model. NONROAD2008a estimates fuel consumption and emissions for all nonroad mobile source categories except for aircraft, commercial marine vessels, and railroad locomotives. Onroad mobile sources include vehicles used on roads for transportation of passengers or freight. Missouri developed its inventory using the EPA's highway mobile source emissions model MOVES 2010a.

Biogenic emissions sources are emissions that come from natural sources. The biogenic source emissions were extracted from the EPA's 2011 National Emissions Inventory (NEI) for the counties located in the nonattainment area. A detailed account of biogenic source emissions by county can be found in appendix A of the state's submission.

For the reasons discussed above, EPA has determined that Missouri's emissions inventory is complete, accurate, and comprehensive and meets the requirements under CAA section 182(a)(1) and the SIP Requirements Rule for the 2008 ozone NAAQs.

B. Emissions Statement

Pursuant to section 182(a)(3)(B), states with Marginal ozone nonattainment areas must require annual emission statements from owners or operators of each NOX and VOC stationary source within the nonattainment area. Missouri regulation 10 CSR 10-6.110 Reporting Emission Data, Emission Fees, and Process Information requires permitted sources to file an annual report on air pollutant emissions to include emission data, process information, and annual emissions fees. The full emissions report identifying actual NOX and VOC emissions is due April 1 after each reporting year. However, if the full emissions report is filed electronically via Missouri's Emissions Inventory System (MoEIS), this due date is extended to May 1. EPA has reviewed the regulation and determined that it meets the requirements of section 182(a)(3)(B) of the CAA, and in addition EPA has approved this regulation into the SIP.

III. Final Action

EPA is approving the SIP revision submitted by Missouri on September 9, 2014, addressing the base year emissions inventory and emissions statement requirements for their portion of the St. Louis area. EPA has concluded that the state's submission meets the requirements of sections 110 and 182 of the CAA. We are publishing this direct final rule without a prior proposed rule because we view this as a noncontroversial action and anticipate no adverse comment. However, in the “Proposed Rules” section of this Federal Register, we are publishing a separate document that will serve as the proposed rule to approve the SIP revision if adverse comments are received on this direct final rule. We will not institute a second comment period on this action. Any parties interested in commenting must do so at this time. For further information about commenting on this rule, see the ADDRESSES section of this document.

If EPA receives adverse comment, we will publish a timely withdrawal in the Federal Register informing the public that this direct final rule will not take effect. We will address all public comments in any subsequent final rule based on the proposed rule.

IV. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 25, 2016. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Nitrogen oxides, Ozone, Reporting and recordkeeping requirements, Volatile organic compounds.

Dated: February 17, 2016.
Mark Hague,
Regional Administrator, Region 7.

For the reasons stated in the preamble, EPA amends 40 CFR part 52 as set forth below:

PART 52—APPROVAL AND PROMULGATION OF IMPLEMENTATION PLANS

1. The authority citation for part 52 continues to read as follows:

Authority: 42 U.S.C. 7401 et seq.

Subpart AA—Missouri

2. In § 52.1320, the table in paragraph (e) is amended by adding entry (69) at the end of the table to read as follows:

§ 52.1320 Identification of Plan.

* * * * *

(e) * * *

EPA-Approved Missouri Nonregulatory SIP Provisions
Name of nonregulatory SIP provision | Applicable geographic area or nonattainment area | State submittal date | EPA approval date | Explanation
* * * * * * *
(69) Marginal Plan for the Missouri Portion of the St. Louis Ozone Nonattainment Area for the 2008 NAAQS | Statewide | 9/9/14 | 2/25/16 [Insert Federal Register citation] | EPA-R07-OAR-2015-0438; 9942-76-Region 7.

[FR Doc. 2016-03901 Filed 2-24-16; 8:45 am]

BILLING CODE 6560-50-P